DEPARTMENT OF EDUCATION

Office of Special Education and Rehabilitative Services and Overview Information; Personnel Development To Improve Services and Results for Children With Disabilities—Special Education Preservice Training Improvement Grants; Notice Inviting Applications for New Awards for Fiscal Year (FY) 2007

Catalog of Federal Domestic Assistance (CFDA) Number: 84.325T.

Dates: Applications Available: November 22, 2006.

Deadline for Transmittal of Applications: January 8, 2007.

Deadline for Intergovernmental Review: March 7, 2007.

Eligible Applicants: Institutions of Higher Education (IHEs).

Note: Programs in IHEs that are preparing preschool teachers are not eligible to apply under this competition.

Estimated Available Funds: The Administration has requested $90,626,000 for the Personnel Development to Improve Services and Results for Children with Disabilities program for FY 2007, of which we intend to use an estimated $3,054,944 for the Special Education Preservice Training Improvement Grants competition. The actual level of funding, if any, depends on final congressional action. However, we are inviting applications to allow enough time to complete the grant process if Congress appropriates funds for this program.

Estimated Range of Awards: $90,000-$100,000.

Estimated Average Size of Awards: $95,000.

Maximum Award: We will reject any application that proposes a budget exceeding $100,000 for a single budget period of 12 months. The Assistant Secretary for Special Education and Rehabilitative Services may change the maximum amount through a notice published in the Federal Register.

Estimated Number of Awards: 32.

Note: No more than one cooperative agreement will be awarded per IHE. Programs in minority institutions that are preparing special education teachers of children with high incidence disabilities are eligible to apply under this competition. For purposes of this competition, the term “minority institutions” include IHEs with a minority student enrollment of 25 percent or more, which may include Historically Black Colleges and Universities, Tribal Colleges, and Predominantly Hispanic Serving Colleges and Universities. Six awards under this competition will be set aside for minority institutions.

Note: The Department is not bound by any estimates in this notice.

Project Period: Up to 60 months.

Full Text of Announcement

I. Funding Opportunity Description

Purpose of Program: The purposes of this program are to (1) help address State-identified needs for highly qualified personnel—in special education, related services, early intervention, and regular education—to work with infants or toddlers with disabilities, or children with disabilities; and (2) ensure that those personnel have the skills and knowledge—derived from practices that have been determined through research and experience to be successful—that are needed to serve those children.

Priorities: In this competition, we are establishing one absolute priority and one competitive preference priority. In accordance with 34 CFR 75.105(b)(2)(v), these priorities are from allowable activities specified in the statute (see sections 662 and 681(c) of the Individuals with Disabilities Education Act).

Absolute Priority: For FY 2007 this priority is, except as otherwise specified, an absolute priority. Under 34 CFR 75.105(c)(3) we consider only applications that meet this priority.

This priority is:

Special Education Preservice Training Improvement Grants Background

State educational agencies, IHEs, and local districts consistently report that it is necessary to restructure or redesign most preparation programs for kindergarten through grade 12 (K-12) special education teachers to ensure that graduates of these programs are able to meet the highly qualified teacher (HQT) requirements in the No Child Left Behind Act of 2001 (NCLB), and the Individuals with Disabilities Education Act, as amended by the Individuals with Disabilities Education Improvement Act of 2004 (IDEA). To accomplish this goal, preparation programs need to ensure that their graduates who expect to be providing instruction in core content areas are not only able to meet State certification or licensure requirements, but that they also have the necessary content knowledge, consistent with the HQT requirements in NCLB and IDEA.

Children with disabilities are now expected to meet high standards for learning in core academic subjects, regardless of classroom setting. Because this is the case, K-12 special education teacher preparation programs must address content knowledge, standards, assessments, and evidence-based practices. Federal support can assist in improving the quality of IHE programs that prepare special education teachers, and help to ensure that these teachers have the knowledge and skills needed to teach students with disabilities using evidence-based interventions.

Priority

The purpose of this priority is to improve the quality of K-12 special education teacher preparation programs to ensure that preparation program graduates are able to meet the HQT requirements under sections 602(10) and 612(14) of IDEA and are well prepared to serve children with high incidence disabilities. For purposes of this priority, the term “high incidence disabilities” refers to learning disabilities, emotional disturbance, or mental retardation. In order to be eligible under this priority, applicants must currently prepare personnel (at the baccalaureate or master's level) to serve school-age children with high incidence disabilities.

To be considered for an award under this priority, applicants must—

(a) Demonstrate, in the narrative section of the application under “Quality of Project Services,” how—

(1) The first year of the project period will be used for planning an improved or restructured K-12 teacher preparation program that includes induction and mentoring components; revising curriculum for, and integrating evidence-based interventions that improve outcomes for children with high incidence disabilities into the improved or restructured program (including providing research citations for those evidence-based interventions); and coordinating with the National Center to Enhance the Professional Development of School Personnel on the use of its web-based training modules. Applicants must describe first year activities and include a five-year timeline and implementation plan in their applications. This plan must describe the proposed project activities associated with implementation of the improved or restructured program that includes the induction and mentoring components. Prior to the actual implementation of this plan (if the applicant receives a cooperative agreement under this competition), the Office of Special Education Programs (OSEP) must approve it;

(2) The improved or restructured program is designed to offer integrated training and practice opportunities that will enhance the skills of beginning special education teachers who share responsibility with general education teachers and other personnel for providing effective services and academic content to children with high incidence disabilities in K-12 classrooms;

(3) The improved or restructured program is designed to prepare special education teachers to address the specialized needs of children with high incidence disabilities from diverse cultural and language backgrounds, including limited English proficient children with disabilities, by identifying the skills that special education teachers need to work effectively with culturally and linguistically diverse populations;

(4) The improved or restructured program is designed to provide extended clinical learning opportunities, field experiences, or supervised practica and ongoing high quality mentoring and induction opportunities in local schools. Applicants also must demonstrate how they will coordinate with the National Center on Policy and Practice in Special Education in designing the program to provide extended clinical learning opportunities, field experiences, or supervised practica;

(5) The improved or restructured program is designed to include field-based training opportunities in diverse settings including schools and settings in high-need communities and in schools not making Adequate Yearly (AYP) Progress under NCLB, especially those schools not making AYP for children with high incidence disabilities;

(6) Upon completion of the improved or restructured program, graduates will be able to meet the HQT requirements in accordance with section 602(10) of IDEA and section 300.18 of the regulations implementing part B of IDEA (34 CFR 300.18); and will be equipped with the knowledge and skills necessary to assist children in achieving State learning standards;

(7) The improved or restructured program is designed to provide support systems (including tutors, mentors, and other innovative practices) to enhance retention and success in the program; and

(8) The improved or restructured program will be maintained once Federal funding ends;

(b) Include in the narrative section of the application under “Quality of Project Evaluation”, a clear, effective plan for collecting data on the extent to which graduates of the improved or restructured program have the knowledge and skills necessary to provide evidence-based instruction and services that result in improved outcomes for children with high incidence disabilities. Projects will be expected to report data in the Annual Performance Report on the extent to which this objective is achieved;

(c) Meet the following statutory requirements of IDEA:

(1) Demonstrate how the proposals for restructuring the teacher preparation program described in the application will be designed to enable graduates of the program to meet State special education teacher licensure standards and HQT requirements in State law or regulation for personnel serving children with disabilities (see section 662(f)(1) and (2) of IDEA). Letters from one or more States that the applicant serves could be one method for addressing this requirement.

(2) Demonstrate how the project involves individuals with disabilities or parents of individuals with disabilities ages birth through 26 in planning, implementing, and evaluating the project (see section 682(a)(1)(A) of IDEA).

(3) Demonstrate how the project funded under this competition makes positive efforts to employ and advance in employment qualified individuals with disabilities (see section 606 of IDEA); and

(d) Meet the following additional requirements:

(1) Budget for planning and improvement activities, including consultants. This priority does not provide for financial support of scholars.

(2) Budget for a three-day Project Director's meeting in Washington, DC, during each year of the project.

(3) If the project maintains a Web site, include relevant information and documents in a form that meets a government or industry-recognized standard for accessibility.

(4) Include, in the application Appendix, all course syllabi for the existing teacher preparation program.

(5) Agree to submit an Annual Performance Report which is required of each grantee for continuation funding (34 CFR 75.590).

Competitive Preference Priority: For FY 2007, this priority is a competitive preference priority. Under 34 CFR 75.105(c)(2)(i) we award up to an additional 10 points to an application depending on the extent to which the application meets this priority.

This priority is:

Competitive Preference Points Based on Number of Special Education Teacher Graduates from Program in a Recent Year

In order to earn competitive preference points under this priority, applicants must document the number of K-12 special education teachers who have graduated from a preparation program that prepares personnel (at the baccalaureate or master's level) to serve school-age children with high incidence disabilities in any recent year, regardless of whether the graduates received support from a Federal grant. For purposes of this competitive preference priority, the term “recent year” is defined as any of the past three fiscal years (i.e., FY 2003, FY 2004, or FY 2005). For example, an applicant that documents 10 graduates during FY 2005 earns 2 competitive preference points. An applicant that documents 16 graduates during FY 2003 earns 6 competitive preference points. An applicant that documents 24 or more graduates during FY 2004 earns 10 competitive preference points.

Number of students graduating (new K-12 special education teachers) from program in a recent year (including non-OSEP funded graduates) | Number of competitive preference points awarded
8-11 graduates | 2 points.
12-15 graduates | 4 points.
16-19 graduates | 6 points.
20-23 graduates | 8 points.
24+ graduates | 10 points.

The number of students graduating from the program must be documented in the application.

Waiver of Proposed Rulemaking: Under the Administrative Procedure Act (APA) (5 U.S.C. 553) the Department generally offers interested parties the opportunity to comment on proposed priorities and requirements. However, section 681(d) of IDEA makes the public comment requirements of the APA inapplicable to the priorities in this notice.

Program Authority: 20 U.S.C. 1462 and 1481.

Applicable Regulations: (a) The Education Department General Administrative Regulations (EDGAR) in 34 CFR Parts 74, 75, 77, 79, 80, 81, 82, 84, 85, 86, 97, 98, and 99. (b) The regulations for this program in 34 CFR part 304.

II. Award Information

Type of Award: Cooperative agreement.

Estimated Available Funds: The Administration has requested $90,626,000 for the Personnel Development to Improve Services and Results for Children with Disabilities program for FY 2007, of which we intend to use an estimated $3,054,944 for the Special Education Preservice Training Improvement Grants competition. The actual level of funding, if any, depends on final congressional action. However, we are inviting applications to allow enough time to complete the grant process if Congress appropriates funds for this program.

Estimated Range of Awards: $90,000-$100,000.

Estimated Average Size of Awards: $95,000.

Maximum Award: We will reject any application that proposes a budget exceeding $100,000 for a single budget period of 12 months. The Assistant Secretary for Special Education and Rehabilitative Services may change the maximum amount through a notice published in the Federal Register.

Estimated Number of Awards: 32.

Note: No more than one cooperative agreement will be awarded per IHE. Programs in minority institutions that are preparing special education teachers of children with high incidence disabilities are eligible to apply under this competition. For purposes of this competition, the term “minority institutions” include IHEs with a minority student enrollment of 25 percent or more, which may include Historically Black Colleges and Universities, Tribal Colleges, and Predominantly Hispanic Serving Colleges and Universities. Six awards under this competition will be set aside for minority institutions.

Note: The Department is not bound by any estimates in this notice.

Project Period: Up to 60 months.

III. Eligibility Information

1. Eligible Applicants: IHEs.

Note: Programs in IHEs that are preparing preschool teachers are not eligible to apply under this competition.

2. Cost Sharing or Matching: This competition does not involve cost sharing or matching.

IV. Application and Submission Information

1. Address to Request Application Package: Education Publications Center (ED Pubs), P.O. Box 1398, Jessup, MD 20794-1398. Telephone (toll free): 1-877-433-7827. FAX: (301) 470-1244. If you use a telecommunications device for the deaf (TDD), you may call (toll free): 1-877-576-7734.

You may also contact ED Pubs at its Web site: http://www.ed.gov/pubs/edpubs.html or you may contact ED Pubs at its e-mail address: edpubs@inet.ed.gov.

If you request an application from ED Pubs, be sure to identify this competition as follows: CFDA number 84.325T.

Individuals with disabilities may obtain a copy of the application package in an alternative format (e.g., Braille, large print, audiotape, or computer diskette) by contacting the Grants and Contracts Services Team listed under FOR FURTHER INFORMATION CONTACT in section VII of this notice.

2. Content and Form of Application Submission: Requirements concerning the content of an application, together with the forms you must submit, are in the application package for this competition.

Page Limit: The application narrative (Part III of the application) is where you, the applicant, address the selection criteria that reviewers use to evaluate your application. You must limit Part III to the equivalent of no more than 50 pages, using the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12-point or larger or no smaller than 10 pitch (characters per inch).

The page limit does not apply to Part I, the cover sheet; Part II, the budget section, including the narrative budget justification; Part IV, the assurances and certifications; or the one-page abstract, the resumes, the bibliography, the references, or the letters of support. However, you must include all of the application narrative in Part III.

We will reject your application if—

• You apply these standards and exceed the page limit; or

• You apply other standards and exceed the equivalent of the page limit.

3. Submission Dates and Times:

Applications Available: November 22, 2006.

Deadline for Transmittal of Applications: January 8, 2007.

Applications for grants under this competition may be submitted electronically using the Grants.gov Apply site (Grants.gov), or in paper format by mail or hand delivery. For information (including dates and times) about how to submit your application electronically, or by mail or hand delivery, please refer to section IV. 6. Other Submission Requirements in this notice.

We do not consider an application that does not comply with the deadline requirements.

Deadline for Intergovernmental Review: March 7, 2007.

4. Intergovernmental Review: This program is subject to Executive Order 12372 and the regulations in 34 CFR part 79. Information about Intergovernmental Review of Federal Programs under Executive Order 12372 is in the application package for this competition.

5. Funding Restrictions: We reference regulations outlining funding restrictions in the Applicable Regulations section of this notice.

6. Other Submission Requirements: Applications for grants under this competition may be submitted electronically or in paper format by mail or hand delivery.

a. Electronic Submission of Applications. We have been accepting applications electronically through the Department's e-Application system since FY 2000. In order to expand on those efforts and comply with the President's Management Agenda, we are continuing to participate as a partner in the new governmentwide Grants.gov Apply site in FY 2007. The Special Education Preservice Training Improvement Grants competition—CFDA number 84.325T is one of the competitions included in this project. We request your participation in Grants.gov.

If you choose to submit your application electronically, you must use the Grants.gov Apply site at http://www.Grants.gov. Through this site, you will be able to download a copy of the application package, complete it offline, and then upload and submit your application. You may not e-mail an electronic copy of a grant application to us.

You may access the electronic grant application for the Special Education Preservice Training Improvement Grants competition—CFDA number 84.325T at: http://www.grants.gov. You must search for the downloadable application package for this program by the CFDA number. Do not include the CFDA number's alpha suffix in your search.

Please note the following:

• Your participation in Grants.gov is voluntary.

• When you enter the Grants.gov site, you will find information about submitting an application electronically through the site, as well as the hours of operation.

• Applications received by Grants.gov are time and date stamped. Your application must be fully uploaded and submitted, and must be date/time stamped by the Grants.gov system no later than 4:30 p.m., Washington, DC time, on the application deadline date. Except as otherwise noted in this section, we will not consider your application if it is date/time stamped by the Grants.gov system later than 4:30 p.m., Washington, DC time, on the application deadline date. When we retrieve your application from Grants.gov, we will notify you if we are rejecting your application because it was date/time stamped by the Grants.gov system after 4:30 p.m., Washington, DC time, on the application deadline date.

• The amount of time it can take to upload an application will vary depending on a variety of factors including the size of the application and the speed of your Internet connection. Therefore, we strongly recommend that you do not wait until the application deadline date to begin the application process through Grants.gov.

• You should review and follow the Education Submission Procedures for submitting an application through Grants.gov that are included in the application package for this competition to ensure that you submit your application in a timely manner to the Grants.gov system. You can also find the Education Submission Procedures pertaining to Grants.gov at http://e-Grants.ed.gov/help/GrantsgovSubmissionProcedures.pdf.

• To submit your application via Grants.gov, you must complete all of the steps in the Grants.gov registration process (see http://www.grants.gov/applicants/get_registered.jsp). These steps include (1) registering your organization, (2) registering yourself as an Authorized Organization Representative (AOR), and (3) getting authorized as an AOR by your organization. Details on these steps are outlined in the Grants.gov 3-Step Registration Guide (see http://www.grants.gov/section910/Grants.govRegistrationBrochure.pdf). You also must provide on your application the same D-U-N-S Number used with this registration. Please note that the registration process may take five or more business days to complete, and you must have completed all registration steps to allow you to successfully submit an application via Grants.gov.

• You will not receive additional point value because you submit your application in electronic format, nor will we penalize you if you submit your application in paper format.

• You may submit all documents electronically, including all information typically included on the following forms: Application for Federal Assistance (SF 424), the Department of Education Supplemental Information for SF 424, Budget Information—Non-Construction Programs (ED 524), and all necessary assurances and certifications. Please note that two of these forms—the SF 424 and the Department of Education Supplemental Information for SF 424—have replaced the ED 424 (Application for Federal Education Assistance). If you choose to submit your application electronically, you must attach any narrative sections of your application as files in a .DOC (document), .RTF (rich text), or .PDF (Portable Document) format. If you upload a file type other than the three file types specified above or submit a password protected file, we will not review that material.

• Your electronic application must comply with any page limit requirements described in this notice.

• After you electronically submit your application, you will receive an automatic acknowledgment from Grants.gov that contains a Grants.gov tracking number. The Department will retrieve your application from Grants.gov and send you a second confirmation by e-mail that will include a PR/Award number (an ED-specified identifying number unique to your application).

• We may request that you provide us original signatures on forms at a later date.

Application Deadline Date Extension in Case of System Unavailability

If you are prevented from electronically submitting your application on the application deadline date because of technical problems with the Grants.gov system, we will grant you an extension until 4:30 p.m., Washington, DC time, the following business day to enable you to transmit your application electronically, or by hand delivery. You also may mail your application by following the mailing instructions as described elsewhere in this notice. If you submit an application after 4:30 p.m., Washington, DC time, on the deadline date, please contact the person listed elsewhere in this notice under FOR FURTHER INFORMATION CONTACT, and provide an explanation of the technical problem you experienced with Grants.gov, along with the Grants.gov Support Desk Case Number (if available). We will accept your application if we can confirm that a technical problem occurred with the Grants.gov system and that that problem affected your ability to submit your application by 4:30 p.m., Washington, DC time, on the application deadline date. The Department will contact you after a determination is made on whether your application will be accepted.

Note: Extensions referred to in this section apply only to the unavailability of or technical problems with the Grants.gov system. We will not grant you an extension if you failed to fully register or submit your application to Grants.gov before the deadline date and time or if the technical problem you experienced is unrelated to the Grants.gov system.

b. Submission of Paper Applications by Mail. If you submit your application in paper format by mail (through the U.S. Postal Service or a commercial carrier), you must mail the original and two copies of your application, on or before the application deadline date, to the Department at the applicable following address:

By mail through the U.S. Postal Service: U.S. Department of Education, Application Control Center, Attention: (CFDA Number 84.325T), 400 Maryland Avenue, SW., Washington, DC 20202-4260; or

By mail through a commercial carrier: U.S. Department of Education, Application Control Center—Stop 4260, Attention: (CFDA Number 84.325T), 7100 Old Landover Road, Landover, MD 20785-1506.

Regardless of which address you use, you must show proof of mailing consisting of one of the following:

(1) A legibly dated U.S. Postal Service postmark,

(2) A legible mail receipt with the date of mailing stamped by the U.S. Postal Service,

(3) A dated shipping label, invoice, or receipt from a commercial carrier, or

(4) Any other proof of mailing acceptable to the Secretary of the U.S. Department of Education.

If you mail your application through the U.S. Postal Service, we do not accept either of the following as proof of mailing:

(1) A private metered postmark, or

(2) A mail receipt that is not dated by the U.S. Postal Service.

If your application is postmarked after the application deadline date, we will not consider your application.

Note: The U.S. Postal Service does not uniformly provide a dated postmark. Before relying on this method, you should check with your local post office.

c. Submission of Paper Applications by Hand Delivery. If you submit your application in paper format by hand delivery, you (or a courier service) must deliver the original and two copies of your application by hand, on or before the application deadline date, to the Department at the following address: U.S. Department of Education, Application Control Center, Attention: (CFDA Number 84.325T), 550 12th Street, SW., Room 7041, Potomac Center Plaza, Washington, DC 20202-4260.

The Application Control Center accepts hand deliveries daily between 8 a.m. and 4:30 p.m., Washington, DC time, except Saturdays, Sundays and Federal holidays.

Note for Mail or Hand Delivery of Paper Applications: If you mail or hand deliver your application to the Department:

(1) You must indicate on the envelope and—if not provided by the Department—in Item 11 of SF 424 the CFDA number—and suffix letter, if any—of the competition under which you are submitting your application.

(2) The Application Control Center will mail a grant application receipt acknowledgment to you. If you do not receive the grant application receipt acknowledgment within 15 business days from the application deadline date, you should call the U.S. Department of Education Application Control Center at (202) 245-6288.

V. Application Review Information

1. Selection Criteria: The selection criteria for this competition are from 34 CFR 75.210 and are listed in the application package.

2. Treating A Priority As Two Separate Competitions: In the past, there have been problems in finding peer reviewers without conflicts of interest for competitions in which many entities throughout the country submit applications. The Standing Panel requirements under IDEA also have placed additional constraints on the availability of reviewers. Therefore, the Department has determined that, for some discretionary competitions, applications may be separated into two or more groups and ranked and selected for funding within the specific group. This procedure will ensure the availability of a much larger group of reviewers without conflicts of interest. It also will increase the quality, independence and fairness of the review process and permit panel members to review applications under discretionary competitions for which they have also submitted applications. However, if the Department decides to select for funding an equal number of applications in each group, this may result in different cut-off points for fundable applications in each group.

Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118.

4. Performance Measures: Under the Government Performance and Results Act of 1993 (GPRA), the Department has developed annual performance measures that will yield information on various aspects of the effectiveness of the Personnel Development to Improve Services and Results for Children with Disabilities program. These measures include: (1) The percentage of projects that incorporate scientifically-based or evidence-based practices; (2) the percentage of scholars who exit training programs prior to completion due to poor academic performance; (3) the percentage of degree or certification recipients employed upon program completion who are working in the area(s) for which they were trained; and (4) the percentage of degree or certification recipients employed upon program completion who are working in the area(s) for which they were trained and are fully qualified under IDEA.

The Department also has developed long-term measures that are designed to yield information on various aspects of program quality. These measures include: (1) The percentage of scholars completing IDEA-funded training programs who are knowledgeable and skilled in scientifically-based or evidence-based practices for infants, toddlers, children and youth with disabilities; and (2) the percentage of program graduates who maintain employment for three or more years in the area(s) for which they were trained). Grantees may be asked to participate in assessing and providing information on these long-term aspects of program quality.

VII. Agency Contact

FOR FURTHER INFORMATION CONTACT: Bonnie Jones, U.S. Department of Education, 400 Maryland Avenue, SW., Room 4153, Potomac Center Plaza, Washington, DC 20202-2600. Telephone: (202) 245-7395.

If you use a telecommunications device for the deaf (TDD), you may call the Federal Relay Service (FRS) at 1-800-877-8339.

Individuals with disabilities may obtain this document in an alternative format (e.g., Braille, large print, audiotape, or computer diskette) on request by contacting the following office: The Grants and Contracts Services Team, U.S. Department of Education, 400 Maryland Avenue, SW., Potomac Center Plaza, Washington, DC 20202-2550. Telephone: (202) 245-7363.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: November 15, 2006.
John H. Hager,
Assistant Secretary for Special Education and Rehabilitative Services.

[FR Doc. E6-19706 Filed 11-21-06; 8:45 am]

BILLING CODE 4000-01-P